DEPARTMENT OF COMMERCE

International Trade Administration

[C-533-945]

Chromium Trioxide From India: Initiation of Countervailing Duty Investigation

AGENCY: Enforcement and Compliance, International Trade Administration, Department of Commerce.

DATES: Applicable December 29, 2025.

FOR FURTHER INFORMATION CONTACT: Dusten Hom, Office I, AD/CVD Operations, Enforcement and Compliance, International Trade Administration, U.S. Department of Commerce, 1401 Constitution Avenue NW, Washington, DC 20230; telephone: (202) 482-5075.

SUPPLEMENTARY INFORMATION:

The Petition

On September 29, 2025, the U.S. Department of Commerce (Commerce) received a countervailing duty (CVD) petition concerning imports of chromium trioxide from India, filed in proper form on behalf of American Chrome & Chemicals, Inc. (the petitioner), a domestic producer of chromium trioxide.¹ The CVD Petition was accompanied by antidumping duty (AD) petitions concerning imports of chromium trioxide from India and the Republic of Türkiye.²

¹ See Petitioner's Letter, “Petitions for Imposition and Antidumping and Countervailing Duties on Imports of Chromium Trioxide from India and the Republic of Türkiye,” dated September 29, 2025 (Petition).

² Id.

Due to the lapse in appropriations and Federal Government shutdown, on November 14, 2025, Commerce tolled all deadlines in administrative proceedings by 47 days.³ Additionally, due to a backlog of documents that were electronically filed via Enforcement and Compliance's Antidumping and Countervailing Duty Centralized Electronic Service System (ACCESS) during the Federal Government shutdown, on November 24, 2025, Commerce tolled all deadlines in administrative proceedings by an additional 21 days.⁴ The revised deadline for the initiation of this investigation is now December 29, 2025.⁵

³ See Memorandum, “Deadlines Affected by the Shutdown of the Federal Government,” dated November 14, 2025.

⁴ See Memorandum, “Tolling of All Case Deadlines,” dated November 24, 2025.

⁵ The revised deadline after tolling was December 26, 2025, which is a federal holiday. See Executive Order on Providing for the Closing of Executive Departments and Agencies of the Federal Government on December 24, 2025, and December 26, 2025, dated December 18, 2025 (https://www.whitehouse.gov/presidential-actions/2025/12/providing-for-the-closure-of-executive-departments-and-agencies-of-the-federal-government-on-december-24-2025-and-december-26-2025/). Commerce's practice dictates that where a deadline falls on a weekend or federal holiday, the appropriate deadline is the next business day (in this instance, December 29, 2025). See Notice of Clarification: Application of “Next Business Day” Rule for Administrative Determination Deadlines Pursuant to the Tariff Act of 1930, as Amended, 70 FR 24533 (May 10, 2005).

Between November 17 and December 9, 2025, Commerce requested supplemental information pertaining to certain aspects of the Petition in supplemental questionnaires.⁶ Between November 20 and December 11, 2025, the petitioner filed timely responses to these requests for additional information.⁷

⁶ See Commerce's Letters, “Supplemental Questions,” dated November 17, 2025 (General Issues Supplemental Questionnaire); “Supplemental Questions,” dated November 17, 2025 (India CVD Supplemental Questionnaire); and “Teleconference with Counsel to the Petitioner,” dated December 9, 2025 (December 9, 2025, Memorandum).

⁷ See Petitioner's Letters, “Response to General Issues Supplemental Questions,” dated November 20, 2025 (General Issues Supplement); “Response to Supplemental Questions,” dated November 20, 2025 (India CVD Supplement); and “Response to Second Supplemental Questionnaire,” dated December 11, 2025 (Foreign Producer Supplement).

In accordance with section 702(b)(1) of the Tariff Act of 1930, as amended (the Act), the petitioner alleges that the Government of India (GOI) is providing countervailable subsidies, within the meaning of sections 701 and 771(5) of the Act, to producers of chromium trioxide from India, and that such imports are materially injuring, or threatening material injury to, the domestic industry producing chromium trioxide in the United States. Consistent with section 702(b)(1) of the Act and 19 CFR 351.202(b), for those alleged programs on which we are initiating a CVD investigation, the Petition was accompanied by information reasonably available to the petitioner supporting its allegations.

Commerce finds that the petitioner filed the Petition on behalf of the domestic industry, because the petitioner is an interested party, as defined in section 771(9)(C) of the Act. Commerce also finds that the petitioner demonstrated sufficient industry support with respect to the initiation of the requested CVD investigation.⁸

⁸ See section on “Determination of Industry Support for the Petition,” infra.

Period of Investigation (POI)

Because the Petition was filed on September 29, 2025, the POI is January 1, 2024, through December 31, 2024.⁹

⁹ See 19 CFR 351.204(b)(2).

Scope of the Investigation

The product covered by this investigation is chromium trioxide from India. For a full description of the scope of this investigation, see the appendix to this notice.

Comments on the Scope of the Investigation

On November 17, 2025, Commerce requested information and clarification from the petitioner regarding the proposed scope to ensure that the scope language in the Petition is an accurate reflection of the products for which the domestic industry is seeking relief.¹⁰ On November 20, 2025, the petitioner provided clarifications and revised the scope.¹¹ The description of merchandise covered by this investigation, as described in the appendix to this notice, reflects these clarifications.

¹⁰ See General Issues Supplemental Questionnaire.

¹¹ See General Issues Supplement at 2-4 and Exhibit GEN-Supp-2.

As discussed in the Preamble to Commerce's regulations, we are setting aside a period for interested parties to raise issues regarding product coverage (i.e., scope).¹² Commerce will consider all scope comments received from interested parties and, if necessary, will consult with interested parties prior to the issuance of the preliminary determination. If scope comments include factual information, all such factual information should be limited to public information.¹³ Commerce requests that interested parties provide at the beginning of their scope comments a public executive summary for each comment or issue raised in their submission. Commerce further requests that interested parties limit their public executive summary of each comment or issue to no more than 450 words, not including citations. Commerce intends to use the public executive summaries as the basis of the comment summaries included in the analysis of scope comments. To facilitate preparation of its questionnaires, Commerce requests that scope comments be submitted by 5:00 p.m. Eastern Time (ET) on January 20, 2026, which is the next business day after 20 calendar days from the signature date of this notice.¹⁴ Any rebuttal comments, which may include factual information, and should also be limited to public information, must be filed by 5:00 p.m. ET on January 30, 2026, which is 10 calendar days from the initial comment deadline.

¹² See Antidumping Duties; Countervailing Duties, Final Rule, 62 FR 27296, 27323 (May 19, 1997) (Preamble); see also 19 CFR 351.312.

¹³ See 19 CFR 351.102(b)(21) (defining “factual information”).

¹⁴ The deadline for scope comments falls on January 18, 2026, which is a Sunday, and January 19, 2026 is a federal holiday. In accordance with 19 CFR 351.303(b)(1), Commerce will accept scope comments filed by 5.00 p.m. ET on January 20, 2026 (“For both electronically and manually filed documents, if the applicable due date falls on a non-business day, the Secretary will accept documents that are filed on the next business day.”).

Commerce requests that any factual information that parties consider relevant to the scope of this investigation be submitted during that period. However, if a party subsequently finds that additional factual information pertaining to the scope of the investigation may be relevant, the party must contact Commerce and request permission to submit the additional information. All scope comments must be filed simultaneously on the records of the concurrent AD and CVD investigations.

Filing Requirements

All submissions to Commerce must be filed electronically via ACCESS, unless an exception applies.¹⁵ An electronically filed document must be received successfully in its entirety by the time and date it is due.

¹⁵ See Antidumping and Countervailing Duty Proceedings: Electronic Filing Procedures; Administrative Protective Order Procedures, 76 FR 39263 (July 6, 2011); see also Enforcement and Compliance; Change of Electronic Filing System Name, 79 FR 69046 (November 20, 2014), for details of Commerce's electronic filing requirements, effective August 5, 2011. Information on using ACCESS can be found at https://access.trade.gov/help.aspx and a handbook can be found at https://access.trade.gov/help/Handbook_on_Electronic_Filing_Procedures.pdf.

Consultations

Pursuant to sections 702(b)(4)(A)(i) and (ii) of the Act, Commerce notified the GOI of the receipt of the Petition and provided an opportunity for consultations with respect to the Petition.¹⁶ The GOI did not request consultations.

¹⁶ See Commerce's Letter, “Invitation for Consultations to Discuss the Countervailing Duty Petition,” dated September 29, 2025.

Determination of Industry Support for the Petition

Section 702(b)(1) of the Act requires that a petition be filed on behalf of the domestic industry. Section 702(c)(4)(A) of the Act provides that a petition meets this requirement if the domestic producers or workers who support the petition account for: (i) at least 25 percent of the total production of the domestic like product; and (ii) more than 50 percent of the production of the domestic like product produced by that portion of the industry expressing support for, or opposition to, the petition. Moreover, section 702(c)(4)(D) of the Act provides that, if the petition does not establish support of domestic producers or workers accounting for more than 50 percent of the total production of the domestic like product, Commerce shall: (i) poll the industry or rely on other information in order to determine if there is support for the petition, as required by subparagraph (A); or (ii) determine industry support using a statistically valid sampling method to poll the “industry.”

Section 771(4)(A) of the Act defines the “industry” as the producers as a whole of a domestic like product. Thus, to determine whether a petition has the requisite industry support, the statute directs Commerce to look to producers and workers who produce the domestic like product. The U.S. International Trade Commission (ITC), which is responsible for determining whether “the domestic industry” has been injured, must also determine what constitutes a domestic like product in order to define the industry. While both Commerce and the ITC must apply the same statutory definition regarding the domestic like product,¹⁷ they do so for different purposes and pursuant to a separate and distinct authority. In addition, Commerce's determination is subject to limitations of time and information. Although this may result in different definitions of the like product, such differences do not render the decision of either agency contrary to law.¹⁸

¹⁷ See section 771(10) of the Act.

¹⁸ See USEC, Inc. v. United States, 132 F.Supp.2d 1, 8 (CIT 2001) (citing Algoma Steel Corp., Ltd. v. United States, 688 F. Supp. 639, 644 (CIT 1988), aff'd Algoma Steel Corp., Ltd. v. United States, 865 F.2d 240 (Fed. Cir. 1989)).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the petition).

With regard to the domestic like product, the petitioner does not offer a definition of the domestic like product distinct from the scope of the investigation.¹⁹ Based on our analysis of the information submitted on the record, we have determined that chromium trioxide, as defined in the scope, constitutes a single domestic like product, and we have analyzed industry support in terms of that domestic like product.²⁰

¹⁹ For a discussion of the domestic like product analysis as applied to this case and information regarding industry support, see Checklist, “Countervailing Duty Investigation Initiation Checklist: Chromium Trioxide from India,” dated concurrently with, and hereby adopted by, this notice (India CVD Initiation Checklist), at Attachment II, Analysis of Industry Support for the Antidumping and Countervailing Duty Petitions Covering Chromium Trioxide from India and the Republic of Türkiye (Attachment II). This checklist is on file electronically via ACCESS.

²⁰ For further discussion, see Attachment II of the India CVD Initiation Checklist.

In determining whether the petitioner has standing under section 702(c)(4)(A) of the Act, we considered the industry support data contained in the Petition with reference to the domestic like product as defined in the “Scope of the Investigation,” in the appendix to this notice. To establish industry support, the petitioner provided its own production of the domestic like product in 2024.²¹ The petitioner identified itself as the sole producer of the domestic like product; therefore, the Petition is supported by 100 percent of the U.S. industry.²² We relied on data provided by the petitioner for purposes of measuring industry support.²³

²¹ Id.

²² Id.

²³ Id.

Our review of the data provided in the Petition, the General Issues Supplement, and other information readily available to Commerce indicates that the petitioner has established industry support for the Petition.²⁴ First, the Petition established support from domestic producers (or workers) accounting for more than 50 percent of the total production of the domestic like product and, as such, Commerce is not required to take further action in order to evaluate industry support (e.g., polling).²⁵ Second, the domestic producers (or workers) have met the statutory criteria for industry support under section 702(c)(4)(A)(i) of the Act because the domestic producers (or workers) who support the Petition account for at least 25 percent of the total production of the domestic like product.²⁶ Finally, the domestic producers (or workers) have met the statutory criteria for industry support under section 702(c)(4)(A)(ii) of the Act because the domestic producers (or workers) who support the Petition account for more than 50 percent of the production of the domestic like product produced by that portion of the industry expressing support for, or opposition to, the Petition.²⁷ Accordingly, Commerce determines that the Petition was filed on behalf of the domestic industry within the meaning of section 702(b)(1) of the Act.²⁸

²⁴ See Attachment II of the India CVD Initiation Checklist.

²⁵ Id.; see also section 702(c)(4)(D) of the Act.

²⁶ See Attachment II of the India CVD Initiation Checklist.

²⁷ Id.

²⁸ Id.

Injury Test

Because India is a “Subsidies Agreement Country” within the meaning of section 701(b) of the Act, section 701(a)(2) of the Act applies to this investigation. Accordingly, the ITC must determine whether imports of the subject merchandise from India materially injure, or threaten material injury to, a U.S. industry.

Allegations and Evidence of Material Injury and Causation

The petitioner alleges that imports of the subject merchandise are benefiting from countervailable subsidies and that such imports are causing, or threaten to cause, material injury to the U.S. industry producing the domestic like product. In addition, the petitioner alleges that subject imports exceed the negligibility threshold provided for under section 771(24)(A) of the Act.²⁹

²⁹ For further information regarding negligibility and the injury allegation, see India CVD Initiation Checklist at Attachment III, Analysis of Allegations and Evidence of Material Injury and Causation for the Antidumping Duty and Countervailing Duty Petitions Covering Chromium Trioxide from India and the Republic of Türkiye (Attachment III).

The petitioner contends that the industry's injured condition is illustrated by a significant increase in the volume of subject imports; increased market share of subject imports; lost sales and revenues; underselling and price suppression; declines in production, capacity utilization, and U.S. shipments; and negative impact on financial performance.³⁰ We assessed the allegations and supporting evidence regarding material injury, threat of material injury, causation, as well as negligibility, and we have determined that these allegations are properly supported by adequate evidence, and meet the statutory requirements for initiation.³¹

³⁰ Id.

³¹ Id.

Initiation of CVD Investigation

Based upon the examination of the Petition and supplemental responses, we find that they meet the requirements of section 702 of the Act. Therefore, we are initiating a CVD investigation to determine whether imports of chromium trioxide from India benefit from countervailable subsidies conferred by the GOI. In accordance with section 703(b)(1) of the Act and 19 CFR 351.205(b)(1), unless postponed, we will make our preliminary determination no later than 65 days after the date of this initiation.

Based on our review of the Petition, we find that there is sufficient information to initiate a CVD investigation on 48 programs alleged by the petitioner. For a full discussion of the basis for our decision to initiate on each program, see the India CVD Initiation Checklist. A public version of the initiation checklist for this investigation is available on ACCESS.

Respondent Selection

In the Petition, the petitioner identified one company (i.e., Vishnu Chemicals Limited (Vishnu)) in India as a producer/exporter of chromium trioxide and provided independent third-party information as support.³² We currently know of no additional producers/exporters of chromium trioxide from India.

³² See Petition at Volume I (page 12 and Exhibit GEN-11); see also General Issues Supplement at 1 and Exhibit GEN-Supp-1; “Response to Second India AD Questionnaire,” dated December 10, 2025 (Second India AD Supplement); and Foreign Producer Supplement.

Accordingly, Commerce intends to individually examine the only known producer/exporter in the investigation from India (i.e., Vishnu). We invite interested parties to comment on this issue. Such comments may include factual information within the meaning of 19 CFR 351.102(b)(21). Parties wishing to comment must do so within three business days of the publication of this notice in the Federal Register. Comments must be filed electronically using ACCESS. An electronically filed document must be received successfully in its entirety via ACCESS by 5:00 p.m. ET on the specified deadline. Because we intend to examine the only known producer/exporter in India, if no comments are received or if comments received further support the existence of only this producer/exporter in India, we do not intend to conduct respondent selection and will proceed to issuing the initial CVD questionnaire to the company identified. However, if comments are received which create a need for a respondent selection process, we intend to finalize our decisions regarding respondent selection within 20 days of publication of this notice.

Distribution of Copies of the Petition

In accordance with section 702(b)(4)(A) of the Act and 19 CFR 351.202(f), a copy of the public version of the Petition has been provided to the GOI via ACCESS. To the extent practicable, we will attempt to provide a copy of the public version of the Petition to each exporter named in the Petition, as provided under 19 CFR 351.203(c)(2).

ITC Notification

Commerce will notify the ITC of its initiation, as required by section 702(d) of the Act.

Preliminary Determination by the ITC

The ITC will preliminarily determine no later than December 30, 2025, whether there is a reasonable indication that imports of chromium trioxide from India are materially injuring, or threatening material injury to, a U.S. industry.³³ A negative ITC determination will result in the investigation being terminated.³⁴ Otherwise, this CVD investigation will proceed according to statutory and regulatory time limits.

³³ See Chromium Trioxide from India and Turkey; Revised Schedule for the Subject Proceeding, 90 FR 52096 (November 19, 2025).

³⁴ See Section 703(a)(1) of the Act.

Submission of Factual Information

Factual information is defined in 19 CFR 351.102(b)(21) as: (i) evidence submitted in response to questionnaires; (ii) evidence submitted in support of allegations; (iii) publicly available information to value factors of production under 19 CFR 351.408(c) or to measure the adequacy of remuneration under 19 CFR 351.511(a)(2); (iv) evidence placed on the record by Commerce; and (v) evidence other than factual information described in (i)-(iv). Section 351.301(b) of Commerce's regulations requires any party, when submitting factual information, to specify under which subsection of 19 CFR 351.102(b)(21) the information is being submitted ³⁵ and, if the information is submitted to rebut, clarify, or correct factual information already on the record, to provide an explanation identifying the information already on the record that the factual information seeks to rebut, clarify, or correct.³⁶ Time limits for the submission of factual information are addressed in 19 CFR 351.301, which provides specific time limits based on the type of factual information being submitted. Interested parties should review the regulations prior to submitting factual information in this investigation.

³⁵ See 19 CFR 351.301(b).

³⁶ See 19 CFR 351.301(b)(2).

Extensions of Time Limits

Parties may request an extension of time limits before the expiration of a time limit established under 19 CFR 351.301, or as otherwise specified by Commerce. In general, an extension request will be considered untimely if it is filed after the expiration of the time limit established under 19 CFR 351.301, or as otherwise specified by Commerce.³⁷ For submissions that are due from multiple parties simultaneously, an extension request will be considered untimely if it is filed after 10:00 a.m. ET on the due date. Under certain circumstances, Commerce may elect to specify a different time limit by which extension requests will be considered untimely for submissions which are due from multiple parties simultaneously. In such a case, we will inform parties in a letter or memorandum of the deadline (including a specified time) by which extension requests must be filed to be considered timely. An extension request must be made in a separate, standalone submission; under limited circumstances we will grant untimely filed requests for the extension of time limits, where we determine, based on 19 CFR 351.302, that extraordinary circumstances exist. Parties should review Commerce's regulations concerning the extension of time limits and the Time Limits Final Rule prior to submitting factual information in this investigation.³⁸

³⁷ See 19 CFR 351.302.

³⁸ See 19 CFR 351.301; see also Extension of Time Limits; Final Rule, 78 FR 57790 (September 20, 2013) (Time Limits Final Rule), available at https://www.gpo.gov/fdsys/pkg/FR-2013-09-20/html/2013-22853.htm.

Certification Requirements

Any party submitting factual information in an AD or CVD proceeding must certify to the accuracy and completeness of that information.³⁹ Parties must use the certification formats provided in 19 CFR 351.303(g).⁴⁰ Commerce intends to reject factual submissions if the submitting party does not comply with the applicable certification requirements.

³⁹ See section 782(b) of the Act.

⁴⁰ See Certification of Factual Information to Import Administration During Antidumping and Countervailing Duty Proceedings, 78 FR 42678 (July 17, 2013) (Final Rule); see also frequently asked questions regarding the Final Rule, available at https://enforcement.trade.gov/tlei/notices/factual_info_final_rule_FAQ_07172013.pdf.

Notification to Interested Parties

Interested parties must submit applications for disclosure under APO in accordance with 19 CFR 351.305. Parties wishing to participate in this investigation should ensure that they meet the requirements of 19 CFR 351.103(d) (e.g., by filing the required letters of appearance). Note that Commerce has amended certain of its requirements pertaining to the service of documents in 19 CFR 351.303(f).⁴¹

⁴¹ See Administrative Protective Order, Service, and Other Procedures in Antidumping and Countervailing Duty Proceedings, 88 FR 67069 (September 29, 2023).

This notice is issued and published pursuant to sections 702 and 777(i) of the Act, and 19 CFR 351.203(c).

Dated: December 29, 2025.
Christopher Abbott,
Deputy Assistant Secretary for Policy and Negotiations, performing the non-exclusive functions and duties of the Assistant Secretary for Enforcement and Compliance.

Appendix

Scope of the Investigation

The merchandise subject to this investigation is chromium trioxide (Chemical Abstracts Services (CAS) registry number 1333-82-0), regardless of form (dry or solution). Chromium trioxide is an inorganic compound with the molecular formula CrO3 in dry form and H2CrO4 in solution form. All relevant formulas refer to same product with one unit of Chromium (as Cr+6) and three units of Oxygen, such as Cr4O12; and Cr0.25O0.75.

The product in dry form is generally referred to as chromium trioxide, which is the acidic anhydride of chromic acid. Chromium trioxide in solution form may be referred to as chromic acid. However, the dry form may also be marketed under the name chromic acid.

A non-exhaustive list of other names used for the subject merchandise includes: chromic anhydride, chromic trioxide, chromium (VI) oxide, monochromium trioxide, chromia, chromium (VI) trioxide, trioxochromium, and chromtrioxid. A non-exhaustive list of trade names for the subject merchandise includes: 11910080KROMSAV-ANHIDRID IP, Aktivkohle, imprägniert, Typ PLWK, Chromsaure, and Chroomzuur.

All chromium trioxide is covered by the scope of this investigation irrespective of purity, particle size, or physical form. Chromium trioxide is generally imported in dry form, including in the form of pellets, flakes, powders, or beads, but the scope includes chromium trioxide in solution form.

Chromium trioxide that has been blended with another product or products other than water is included in the scope if the resulting mix contains 90 percent or more of chromium trioxide by total formula weight, such as chromium trioxide mixed with a catalyst to make the product ready for use in metal finishing applications. If chromium trioxide is imported blended with another product, only the chromium trioxide content of the blend is included within the scope.

Subject merchandise also includes chromium trioxide that has been processed in a third country into a product that otherwise would be within the scope of this investigation, i.e., if any such further processing would not otherwise remove the merchandise from the scope of the investigation it is included in the scope of the investigation, including blending, flaking, mixing with water, or packaging. For example, the dry form of the subject merchandise may be imported into a third country and then processed into solution before shipment to the United States. Such a solution would be subject to the scope.

The subject merchandise is provided for in subheading 2819.10.0000 of the Harmonized Tariff Schedule of the United States (HTSUS). In addition to 1333- 82-0, import documentation may also reflect CAS registry numbers 12324-05-9, 12324-08-2, and 1362947-20-3. Although the HTSUS subheading and CAS registry numbers are provided for convenience and customs purposes, the written description of the scope is dispositive.

[FR Doc. 2025-24223 Filed 1-2-26; 8:45 am]

BILLING CODE 3510-DS-P